DEPARTMENT OF HEALTH AND HUMAN SERVICES

Centers for Disease Control and Prevention

Workplace HIV/AIDS Programs/Public Private Partnerships

Announcement Type: New.

Funding Opportunity Number: 05073.

Catalog of Federal Domestic Assistance Number: 93.067.

Key Dates: Application Deadline: July 25, 2005.

I. Funding Opportunity Description

Authority: This program is authorized under Sections 301 and 307 of the Public Health Service Act [42 U.S.C. 241 and 242], as amended.

Background: Zimbabwe has one of the highest HIV/AIDS infection rates in the world, with approximately a 25 percent infection rate among adults. For the past five years, Zimbabwe has been and continues to suffer severe socioeconomic and political crises. The economy continues to contract at unprecedented rates with close to 200 percent annual inflation. Unemployment is high, yet workplaces remain a critical point for information and service delivery to combat HIV and AIDS.

In the context of these numerous pressures, the Centers for Disease Control and Prevention (CDC) Global AIDS Program (GAP) in Zimbabwe is designed to support key national initiatives and organizations, including those led by the Ministry of Health and Child Welfare (MOHCW), National AIDS Council (NAC), University of Zimbabwe (UZ) and Zimbabwe AIDS Network, through strategic use of technical and financial assistance. Given the impact of the HIV/AIDS pandemic on Zimbabwe's workforce, CDC Zimbabwe has also been supporting the provision of assistance to governmental organizations and non-governmental organizations (NGOs), businesses, and labor organizations for the development and implementation of HIV/AIDS workplace prevention, care, and support programs. With this request for technical assistance, CDC Zimbabwe seeks to continue to provide support for development of workplace HIV programs.

Purpose: The purpose of the program is to provide targeted assistance to governmental, nongovernmental, business and labor sectors in developing and implementing HIV/AIDS workplace prevention, care, and support programs. Targeted assistance should include gender-focused supports and interventions, as well as general supports.

Measurable outcomes of the program will be in alignment with the following performance goal for the National Center for HIV/STD/TB Prevention (NCHSTP): By 2010, work with other countries, international organizations, the Department of State, United States Agency for International Development (USAID), and other partners to achieve the United Nations General Assembly Special Session on HIV/AIDS goal of reducing prevalence among persons 15 to 24 years of age. This will be done by strengthening human capacity to respond to the epidemic, working in priority areas of primary prevention, care and treatment, and surveillance for HIV/AIDS.

This announcement is only for non-research activities supported by CDC. If research is proposed, the application will not be reviewed. For the definition of research, please see the CDC Web site at the following Internet address: http://www.cdc.gov/od/ads/opspoll1.htm.

Activities: Through a previous cooperative agreement with the Academy for Educational Development (AED), number UC62/CCU320180-03, CDC Zimbabwe support in the area of workplace HIV/AIDS programs has resulted in the completion of an extensive needs assessment and strategic planning process. As a result of this process, work has already begun with numerous organizations (including the business sector, labor, and non-governmental organizations). The Awardee will select 20 of these organizations (including nine organizations that received subgrants under the AED cooperative agreement, i.e., Hippo Valley Estates, Associated Mine Workers of Zimbabwe, General Agriculture and Plantation Workers Union, Crest Breeders, Dyno Nobel Zimbabwe (Pvt) Ltd., Victoria Falls Informal Traders Association, Zimbabwe Domestic and Allied Workers Union, Zimbabwe Chemicals Plastics Allied Workers Union, and the Iron and Steel Workers Union of Zimbabwe) and will provide the following services:

1. Planning

Provide planning services to the 20 core organizations noted above on the development and implementation of workplace HIV/AIDS programs. The criteria used for selecting 11 of these 20 organizations (nine are specifically cited above) will be developed in coordination with CDC. Planning services may include:

a. Conducting focused program assessments of the 20 core organizations in order to confirm areas of specific need. Among other things, the Awardee will review whether the organizations have an HIV/AIDS policy in place, whether that policy has been made available to the employees, whether any HIV/AIDS-related programs are being implemented in accordance with the stated policy and the effectiveness of such programs. The awardee will also review whether there are opportunities to add or refine gender-specific approaches within the policies and programs.

b. Convening group meetings in each of the 20 core organizations to conduct planning activities based on the findings emerging from the focused program assessments. For any organizations previously assisted through CDC workplace activities, planned activities should be a continuation of and follow-up to previously implemented strategies supported by CDC to ensure most efficient use of resources and avoid duplication or inefficient reorganization of efforts. For the nine organizations cited above, the plans should call for an expansion, improvement, or intensification of activities previously undertaken with CDC support. Plans should be completed for each of the 20 organizations within three months after award and submitted to the CDC Zimbabwe Project Officer. These plans should outline what training and evaluation activities are proposed to be carried out among the 20 core organizations.

2. Training

Provide training services to the 20 core organizations noted above on the development and implementation of workplace HIV/AIDS programs. Training topics may include, but are not limited to: The development and implementation of HIV/AIDS workplace policy; the development and implementation of HIV/AIDS workplace programs; HIV/AIDS prevention education; peer education and support programs; gender-specific targeted interventions; programs focusing on the reduction of stigma and discrimination; and relevant material development (e.g., curriculum packages and supporting training aids). For any organizations previously assisted through CDC workplace activities, training activities should be a continuation of and follow-up to previously implemented strategies supported by CDC to ensure the most efficient use of resources and avoid duplication or inefficient reorganization of efforts.

3. Subgrant Program

Establish a competitively-awarded grant program, among the labor organizations which are a part of the 20 core organizations, to support workplace programs in an intensive manner. Up to four sub-grants total (not exceeding $15,000 each) should be awarded to labor organizations for the development of new workplace programs or expansion of existing workplace programs with a proven record of effectiveness.

4. Technical Assistance

Provide technical support services to a larger grouping (e.g., the broader workplace and business community) beyond the 20 core organizations cited above of government, NGOs, business, and labor partners. The criteria used for identifying opportunities to address the broader sector, topics to be covered and a timeline for the delivery of the technical assistance will be developed in coordination with CDC. Topics for technical assistance may include, but not be limited to: Networking/information sharing; building awareness and understanding of the statutory instruments; developing and adopting workplace policies; reaching a wider audience and meeting needs through development of gender-specific approaches; and developing workplace programs. In the delivery of technical assistance, the Awardee should determine and justify which, if any, organizations shall receive one-on-one assistance, which shall receive offsite assistance through the use of distance technologies, and which shall receive assistance in an offsite group context where several organizations are brought together to receive information and work on a particular topic. For any organizations identified that have previously received CDC-supported workplace assistance, activities should be a continuation of and follow-up to previously implemented strategies supported by CDC to ensure most efficient use of resources and avoid duplication or inefficient reorganization of efforts.

An additional component of the Awardee's technical assistance program will be to develop a business plan that details how the Awardee would respond to grant requests for technical assistance on HIV/AIDS workplace programs from other businesses, NGOs, government, labor, and donors. This business plan will, among other things, detail the Awardee's areas of expertise, approaches for delivering a variety of services, the human resource requirements for additional activities, and what budgetary support would be needed to deliver services to additional organizations. The rationale here is that within 18 months of this award, in addition to carrying out the activities required herein, the Awardee should be able to offer a variety of services related to developing and implementing HIV/AIDS workplace programs, such that resources from additional sources could easily be translated to expansion of activities, thereby contributing to the longer-term sustainability of this organization to provide expert services.

5. Evaluation

Conduct an overall evaluation of Awardee's program activities, as well as provide program evaluation services to the 20 organizations noted above to assess the effectiveness of their workplace HIV/AIDS programs. This should include, but not be limited to evaluation of the effectiveness of prevention and care interventions and the assessment of the functioning of prevention programs. Evaluation should include the entire period of CDC-funded workplace activities, such that new activities or progress may accurately reflect the benefit gained from continuation and follow-up of original strategy. Evaluation activities may include, but are not limited to: Onsite program assessment and reviews; process, outcome, and impact evaluation, as well as economic evaluations; convening groups of people to conduct evaluation activities such as focus groups and interviews; data collection, management and analysis; and report and manuscript generation based on evaluation results.

The evaluation component of each of the 20 organizations' plans should, among other activities, detail specific objectives, what systems will be established for the collection of baseline data, for the monitoring of activities, and for the submission of a draft summative evaluation report (addressing overall findings and lessons learned) that will be due 45 days prior to the expiration of this Cooperative Agreement.

In a cooperative agreement, CDC staff is substantially involved in the program activities, above and beyond routine grant monitoring. CDC Activities for this program are as follows:

1. Collaborate as needed with the recipient on designing and implementing the activities listed above, including but not limited to the provision of technical assistance to develop and implement program plans (including training, technical assistance, and evaluation services) and activities.

2. Assist in developing criteria for the selection of program participants (the 20 core organizations plus additional organizations that will receive assistance), and approve the actual selection of all program participants.

3. Monitor project and budget performance.

II. Award Information

Type of Award: Cooperative Agreement. CDC involvement in this program is listed in the Activities Section above.

Fiscal Year Funds: 2005.

Approximate Total Funding: $600,000 over three years (This amount is an estimate, and is subject to availability of funds.).

Approximate Number of Awards: One.

Approximate Average Award: $200,000 (This amount is for the first 12-month budget period, and includes direct costs.).

Floor of Award Range: None.

Ceiling of Award Range: $200,000 (This ceiling is for the first 12-month budget period.).

Anticipated Award Date: August 31, 2005.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit and for-profit organizations/agencies that are legally registered in Zimbabwe. Such organizations include:

• Public nonprofit organizations.

• Private nonprofit organizations.

• For-profit organizations.

• Universities.

• Research institutions.

• Community-based organizations.

• Faith-based organizations.

• Organizations with business consulting experience, particularly in HIV/AIDS-related, general health-related, or human resources issues.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission: CDC strongly encourages you to submit your application electronically by utilizing the forms and instructions posted for this announcement on http://www.Grants.gov, the official Federal agency wide E-grant Web site. Only applicants who apply online are permitted to forego paper copy submission of all application forms.

Paper Submission: Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 25. If your narrative exceeds the page limit, only the first pages which are within the page limit will be reviewed.

• Font size: 12-point unreduced.

• Double spaced.

• Paper size: 8.5 by 11 inches.

• Page margin size: One inch.

• Printed only on one side of page.

• Held together only by rubber bands or metal clips; not bound in any other way.

Your narrative should address activities to be conducted over the entire project period, and must include the following items in the order listed:

• Justification for Program.

• Eligibility and Organizational Capacity.

• Proposed Program Plan (including goals, objectives, and plan of operation).

• Program Management (including staffing, collaborators, and infrastructure).

• Evaluation Plan.

• Budget and Justification (will not be counted in the stated page limit).

Additional information may be included in the application appendices. The appendices will not be counted toward the narrative page limit. This additional information includes:

• Curriculum Vitaes.

• Organizational Charts.

• Letters of Support.

• Applicants must document eligibility by submitting verification of their Zimbabwean registration status.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: July 25, 2005.

Explanation of Deadlines: Applications must be received in the CDC Procurement and Grants Office by 4 p.m. Eastern Time on the deadline date.

Applications may be submitted electronically at http://www.grants.gov. Applications completed on-line through Grants.gov are considered formally submitted when the applicant organization's Authorizing Official electronically submits the application to http://www.grants.gov. Electronic applications will be considered as having met the deadline if the application has been submitted electronically by the applicant organization's Authorizing Official to Grants.gov on or before the deadline date and time.

If submittal of the application is done electronically through Grants.gov (http://www.grants.gov), the application will be electronically time/date stamped, which will serve as receipt of submission. Applicants will receive an e-mail notice of receipt when CDC receives the application.

If you submit your application by the United States Postal Service or commercial delivery service, you must ensure that the carrier will be able to guarantee delivery by the closing date and time. If CDC receives your submission after closing due to: (1) Carrier error, when the carrier accepted the package with a guarantee for delivery by the closing date and time; or (2) significant weather delays or natural disasters, you will be given the opportunity to submit documentation of the carrier's guarantee. If the documentation verifies a carrier problem, CDC will consider the submission as having been received by the deadline.

If a hard copy application is submitted, CDC will not notify you upon receipt of your paper submission. If you have a question about the receipt of your application, first contact your courier. If you still have a question, contact the PGO-TIM staff at: 770-488-2700. Before calling, please wait two to three days after the submission deadline. This will allow time for submissions to be processed and logged.

This announcement is the definitive guide on application content, submission address, and deadline. It supersedes information provided in the application instructions. If your submission does not meet the deadline above, it will not be eligible for review, and will be discarded. You will be notified that you did not meet the submission requirements.

IV.4. Intergovernmental Review of Applications

Executive Order 12372 does not apply to this program.

IV.5. Funding Restrictions

Restrictions, which must be taken into account while writing your budget, are as follows:

• Funds may not be used for research.

• Reimbursement of pre-award costs is not allowed.

• Funds may not be used for construction.

• Some office furniture and equipment purchased under the prior workplace cooperative agreement #UC62/CCU320180-03 may be available for use by the Awardee for program purposes. In this event, the Awardee would be restricted from using portions of this award for the purchase of similar furniture and equipment, unless it provided justification to CDC for needing additional numbers of such furniture and equipment.

• Funds may be spent for reasonable program purposes, including personnel, travel, supplies, and services. Equipment may be purchased if deemed necessary to accomplish program objectives; however, prior approval by CDC officials must be requested in writing.

• All requests for funds contained in the budget shall be stated in U.S. dollars. Once an award is made, CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

• The applicant may contract with other organizations under this program; however, the applicant must perform a substantial portion of the activities (including program management and operations, and delivery of prevention services for which funds are required).

• You must obtain an annual audit of these CDC funds (program-specific audit) by a U.S.-based audit firm with international branches and current licensure/authority in-country, and in accordance with International Accounting Standards or equivalent standard(s) approved in writing by CDC.

• A fiscal Recipient Capability Assessment may be required, prior to or post award, in order to review the applicant's business management and fiscal capabilities regarding the handling of U.S. Federal funds.

• Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

Guidance for completing your budget can be found on the CDC Web site, at the following Internet address: http://www.cdc.gov/od/pgo/funding/budgetguide.htm.

IV.6. Other Submission Requirements Application Submission Address

Electronic Submission:

CDC strongly encourages applicants to submit electronically at: http://www.Grants.gov. You will be able to download a copy of the application package from http://www.Grants.gov, complete it offline, and then upload and submit the application via the Grants.gov site. E-mail submissions will not be accepted. If you are having technical difficulties in Grants.gov, customer service can be reached by e-mail at http://www.grants.gov/CustomerSupport or by phone at 1-800-518-4726 (1-800-518-GRANTS). The Customer Support Center is open from 7 a.m. to 9 p.m. Eastern Time, Monday through Friday.

CDC recommends that submittal of the application to Grants.gov should be early to resolve any unanticipated difficulties prior to the deadline. Applicants may also submit a back-up paper submission of the application. Any such paper submission must be received in accordance with the requirements for timely submission detailed in Section IV.3. of the grant announcement. The paper submission must be clearly marked: “BACK-UP FOR ELECTRONIC SUBMISSION.”

The paper submission must conform to all requirements for non-electronic submissions. If both electronic and back-up paper submissions are received by the deadline, the electronic version will be considered the official submission.

It is strongly recommended that the applicant submit the grant application using Microsoft Office products (e.g., Microsoft Word, Microsoft Excel, etc.). If the applicant does not have access to Microsoft Office products, a PDF file may be submitted. Directions for creating PDF files can be found on the Grants.gov Web site. Use of file formats other than Microsoft Office or PDF may result in the file being unreadable by staff.

Or

Paper Submission:

If you chose to submit a paper application, submit the original and two hard copies of your application by mail or express delivery service to: Technical Information Management Section—RFA 05073, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1.Technical and Programmatic Approach (35 points):

Does the proposal demonstrate an understanding of how to provide HIV/AIDS workplace services to governmental, nongovernmental, business, and labor sectors including an overall design strategy and including measurable time lines? Does the proposal address regular monitoring and evaluation, and the potential effectiveness of the proposed activities in meeting objectives? Does the proposal offer a system for providing training, subgranting, technical assistance, and evaluation services to a select group of diverse organizations in Zimbabwe?

2. Ability to Carry Out the Project (30 points):

Does the applicant demonstrate organizational capability to achieve the purpose of the project including experience with HIV/AIDS workplace programs in Zimbabwe?

3. Personnel (20 points):

Are professional personnel involved in this project qualified, including documented evidence of their knowledge and experience in working on HIV/AIDS workplace programs? Is the composition of the applicant's key staff indigenous to the population of Zimbabwe?

4. Plans for Administration and Management of the Project (15 points):

Does the composition of the applicant's governing body reflect the indigenous population of Zimbabwe and other relevant partners across Zimbabwe? Do the applicant's charter, mission, and mandate reflect its role as a key service provider in the area of HIV/AIDS workplace programs?

5. Budget (not scored):

Is the itemized budget for conducting the project, along with justification, reasonable and consistent with stated objectives and planned program activities?

V. 2. Review and Selection Process

Applications will be reviewed for completeness by the Procurement and Grants Office (PGO) staff, and for responsiveness by NCHSTP staff. Incomplete applications and applications that are non-responsive to the eligibility criteria will not advance through the review process. Applicants will be notified that their application did not meet submission requirements.

An objective review panel will evaluate complete and responsive applications according to the criteria listed in the “V.1. Criteria” section above. The objective review process will follow the policy requirements as stated in the GPD 2.04 (http://198.102.218.46/doc/gpd204.doc). Applications will be funded in order by score and rank determined by the review panel. All persons serving on the panel will be external to the funding division of NCHSTP.

CDC will provide justification for any decision to fund out of rank order.

V.3. Anticipated Announcement and Award Dates

August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.y

Unsuccessful applicants will receive notification of the results of the application review by mail.

VI.2. Administrative and National Policy Requirements

Successful applicants must comply with the administrative requirements outlined in 45 CFR part 74, as appropriate. The following additional requirements apply to this project:

• AR-4 HIV/AIDS Confidentiality Provisions.

• AR-5 HIV Program Review Panel Requirements.

• AR-6 Patient Care.

• AR-10 Smoke-Free Workplace Requirements.

• AR-14 Accounting System Requirements.

Additional information on these requirements can be found on the CDC web site at the following Internet address: http://www.cdc.gov/od/pgo/funding/ARs.htm.

For more information on the Code of Federal Regulations, see the National Archives and Records Administration at the following Internet address: http://www.access.gpo.gov/nara/cfr/cfr-table-search.html.

An additional Certifications form from the PHS5161-1 application needs to be included in the Grants.gov electronic submission only. Applicant should refer to http://www.cdc.gov/od/pgo/funding/PHS5161-1-Certificates.pdf. Once the applicant has filled out the form, it should be attached to the Grants.gov submission as Other Attachment Forms.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Annual progress report, due 30 days after the end of each budget period, and must contain the following elements:

a. Progress towards meeting program objectives during the reporting period.

b. Reporting period financial progress.

c. New Budget Period Program Propsoed Activity Objectives.

d. Measures of Effectiveness.

e. Additional Requested Information.

3. Financial status report no more than 90 days after the end of the budget period.

4. Final financial and performance reports, no more than 90 days after the end of the project period.

These reports must be mailed to the Grants Management Specialist listed in the “Agency Contacts” section of this announcement.

VII. Agency Contacts

We encourage inquiries concerning this announcement. For general questions, contact: Technical Information Management Section, CDC Procurement and Grants Office, 2920 Brandywine Road, Atlanta, GA 30341. Telephone: 770-488-2700.

For program technical assistance, contact: Virginia Bourassa, Project Officer, 127 Herbert Chitepo Avenue, P.O. Box 3340, Harare, Zimbabwe. Telephone: 9 011 263 4 796 040. E-mail:Bourassav@zimcdc.co.zw.

For financial, grants management, or budget assistance, contact: Shirley Wynn, Grants Management Specialist, CDC Procurement and Grants Office, 2920 Brandywine Road, Atlanta, GA 30341. Telephone: 770-488-1515.

VIII. Other Information

This and other CDC funding opportunity announcements can be found on the CDC Web site, Internet address: http://www.cdc.gov. Click on “Funding,” then “Grants and Cooperative Agreements.”

Dated: June 17, 2005.
William P. Nichols,
Director, Procurement and Grants Office, Centers for Disease Control and Prevention.

[FR Doc. 05-12413 Filed 6-22-05; 8:45 am]

BILLING CODE 4163-18-P